SMALL BUSINESS ADMINISTRATION

[Disaster Declaration #21181 and #21182; OREGON Disaster Number OR-20012]

Administrative Declaration of a Disaster for the State of Oregon

AGENCY: U.S. Small Business Administration.

ACTION: Notice.

SUMMARY: This is a notice of an Administrative declaration of a disaster for the State of OREGON dated July 16, 2025.

Incident: Rowena Wildfire.

DATES: Issued on July 16, 2025.

Incident Period: June 11, 2025 through June 19, 2025.

Physical Loan Application Deadline Date: September 15, 2025.

Economic Injury (EIDL) Loan Application Deadline Date: April 16, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Wasco.

Contiguous Counties:

Oregon: Clackamas, Gilliam, Hood River, Jefferson, Marion, Sherman, Wheeler.

Washington: Klickitat.

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 211815 and for economic injury is 211820.

The States which received an EIDL Declaration are Oregon, Washington.

(Catalog of Federal Domestic Assistance Number 59008)

(Authority: 13 CFR 123.3(b).)

James Stallings,
Associate Administrator, Office of Disaster Recovery and Resilience.

[FR Doc. 2025-13616 Filed 7-18-25; 8:45 am]

BILLING CODE 8026-09-P